DEPARTMENT OF AGRICULTURE

Rural Utilities Service

Distance Learning and Telemedicine Grant Program

AGENCY: Rural Utilities Service, USDA.

ACTION: Notice of Funding for FY 2012 of the Distance Learning and Telemedicine Grant Program.

SUMMARY: The Rural Utilities Service (RUS) is providing notice of Fiscal Year 2012 awards for its Distance Learning and Telemedicine (DLT) Grant Program. For Fiscal Year 2012, $15 million in grants will be awarded to the top scoring applications in rank order for the national competition announced in the Federal Register on February 24, 2011 (Vol. 76, No. 37). Therefore, applications for DLT grant funds will not be solicited in FY 2012. Many of the applications submitted under the aforementioned Notice, which have been evaluated and scored, represent exemplary projects in their use of telecommunications, computer networks, and related advanced technologies to encourage and improve telemedicine services and distance learning services in rural areas. Only a limited number of these projects, however, could be funded with appropriated FY 2011 funds. The $15 million appropriated in Fiscal Year 2012 will be awarded to fund the highest scoring of these remaining projects according to their ranking position in the 2011 competition. RUS will notify the public when it will be taking new applications

DATES: Upon publication, successful grant applicants will be notified in writing.

FOR FURTHER INFORMATION CONTACT: David J. Villano, Assistant Administrator, Telecommunications Program, Rural Utilities Service, U.S. Department of Agriculture, 1400 Independence Avenue SW., STOP 1590, Room 5151, Washington, DC 20250-1590. Telephone number (202) 720-9554

SUPPLEMENTARY INFORMATION: On February 24, 2011, the Rural Utilities Service published a Notice of Solicitation of Applications (NOSA) and Grant Application Deadlines of its Distance Learning and Telemedicine (DLT) grant program, which also established the application window for Fiscal Year (FY) 2011 subject to the availability of funding.

In response to the NOSA, RUS received 211 applications with requests totaling $60,002,789. As part of a national competition, RUS reviewed each project's eligibility, and scored the applications according to factors of rurality, National School Lunch Program statistics, need for services, innovativeness, cost effectiveness and percentage of matching funds committed. On December 8, 2011 Secretary of Agriculture Tom Vilsack announced the 100 highest scoring projects which would receive the 2011 funding.

From the initial response to the February 24, 2011 NOSA, RUS has on-hand eligible applications with requests totaling more than the $15 million appropriations received for Fiscal Year 2012. These remaining unfunded FY 2011 proposals have fulfilled the requirements and stated objectives of the DLT Program, and represent imminently needed technology in their rural communities. RUS will utilize its FY 2012 appropriation by funding these top scoring projects in rank order that were submitted and scored in accordance with the February 24, 2011 NOSA.

This will eliminate the burden of these applicants in updating their project, and going through the process of reapplying. Announcement of the grant awards made in accordance with this notice utilizing 2012 Appropriations will be made at a later date and announced on the USDA Web site at www.usda.gov.

Dated: March 26, 2012.
Jonathan Adelstein,
Administrator, Rural Utilities Service.

[FR Doc. 2012-11045 Filed 5-7-12; 8:45 am]

BILLING CODE P